DEPARTMENT OF DEFENSE

Department of the Air Force

Notice of Intent

AGENCY: United States Air Force, Air Mobility Command, Federal Aviation Administration.

ACTION: Notice of intent.

Authority: 42 U.S.C. 4321—4347; 40 CFR Parts 1500-1508; and 32 CFR part 989.

SUMMARY: The Air Force issues this notice to advise the public of its intent to prepare an Environmental Impact Statement (EIS) for the Beddown and Flight Operations of Unmanned Aerial Systems (UAS) at Grand Forks Air Force Base, North Dakota. The EIS will assess the potential environmental impacts associated with the proposed beddown and flight operations of unmanned aerial systems (UASs) at Grand Forks Air Force Base (GFAFB). The proposal responds to the 2005 Base Realignment and Closure (BRAC) decision to beddown the emerging UAS mission at GFAFB and entails restructuring airspace in the vicinity of GFAFB to allow for the safe training and operations of UASs. Additional information is available at the project Web site listed below.

DATES: Four scoping meetings will be held as follows:

1. October 6, 2008; 4 p.m., Grand Forks, ND.

2. October 7, 2008; 4 p.m., Devils Lake, ND.

3. October 8, 2008; 4 p.m., Langdon, ND.

4. October 9, 2008, 4 p.m., Carrington, ND.

ADDRESSES: 1. Grand Forks—Red River High School, 2211 17th Avenue.

2. Devils Lake—Lake Region State College, Dining Room, 1801 College Drive.

3. Langdon—North Dakota State University, Langdon Research Extension Center, 9280 107th Ave NE.

4. Carrington—Carrington High School Common Area, 100 3rd Ave S.

FOR FURTHER INFORMATION CONTACT: Mr. Doug Allbright, 618-229-0846.

SUPPLEMENTARY INFORMATION: Headquarters Air Mobility Command (HQ AMC), the Air National Guard (ANG), the Air Combat Command (ACC) and the 319th Airlift Refueling Wing (319 ARW) would provide the required equipment, facilities, necessary infrastructure, staffing and airspace to support the 2005 Base Realignment and Closure (BRAC) decision to beddown the emerging UAS mission at GFAFB. The Federal Aviation Administration is participating in this process as a Cooperating Agency.

The proposed action, Alternative A, would restructure airspace in the vicinity of GFAFB to allow for the safe training and operations of UASs. These modifications would include establishing a restricted area above GFAFB, converting a portion of the existing Tiger and Devils Lake Military Operations Areas (MOAs) to restricted airspace, expanding the Camp Grafton restricted area (R-5401) for the use of non-eye safe lasers, and creating restricted corridors to link the training areas with GFAFB. Use of non-eye safe lasers at Camp Grafton would be contained within the existing land boundaries of Camp Grafton. These airspace changes would allow UAS pilots to receive the training necessary to remain proficient in operating these aircraft.

Alternatives: Three action alternatives and a no-action alternative have initially been identified for analysis, they include:

Alternative A: This alternative consists converting a portion of the Tiger and Devils Lake MOAs to restricted airspace, creating four new restricted airspace areas and expanding airspace at Camp Grafton. The new areas consist of a UAS arrival and departure airspace area, two Predator transit corridors, and a north-south Predator access corridor. Existing restricted airspace above Camp Grafton would be expanded for use of the non-eye safe Predator laser. Minor building renovations and the installation of two aviation fuel tanks at GFAFB would also be required.

Alternative B: This alternative consists of converting the entire Tiger and Devils Lake MOAs to restricted airspace, establishing three new restricted areas and expanding airspace at Camp Grafton for use of the non-eye safe Predator laser. The new airspace would consist of a UAS arrival and departure airspace area and two Predator transit corridors. The minor renovation and tank installation would also occur under this alternative.

Alternative C: This alternative consists of the actions proposed in Alternative A along with the construction of a new UAS hangar at GFAFB.

No Action: This alternative consists of no changes to the existing airspace structure around GFAFB and no renovation or construction would occur at GFAFB to accommodate the 2005 BRAC recommendations.

Direct written comments to: HQ AMC/A7PI, 507 Symington Drive; Scott Air Force Base, Illinois 62225 or via the project Web site at: http://www.grandforksuaseis.com. All are encouraged to provide comments on the proposed action either at the scoping meetings or by mail, postmarked no later than 30 October 2008 to ensure proper consideration in the environmental impact analyses.

Bao-Anh Trinh,
Air Force Federal Register Liaison Officer.

[FR Doc. E8-21880 Filed 9-17-08; 8:45 am]

BILLING CODE 5001-05-P